Executive Order 13349 of July 23, 2004

Amending Executive Order 13226 To Designate the President's Council of Advisors on Science and Technology To Serve as the National Nanotechnology Advisory Panel

By the authority vested in me as President by the Constitution and the laws of the United States of America, including the 21st Century Nanotechnology Research and Development Act (Public Law 108-153), and in order to designate the National Nanotechnology Advisory Panel pursuant to section 4(a) of that Act, it is hereby ordered as follows:

Executive Order 13226 of September 30, 2001, as amended, is further amended by adding a new section 2(c), to read as follows:

“(c) PCAST shall serve as the National Nanotechnology Advisory Panel under section 4 of the 21st Century Nanotechnology Research and Development Act (Public Law 108-153) (Act). Nothing in this Order shall be construed to require the National Nanotechnology Advisory Panel to comply with any requirement from which it is exempted by section 4(f) of the Act.”

B

THE WHITE HOUSE,

July 23, 2004.

[FR Doc. 04-17204

Filed 7-26-04; 8:45 am]

Billing code 3195-01-P